DEPARTMENT OF ENERGY

Federal Energy Regulatory Commission

Combined Notice of Filings

Take notice that the Commission has received the following Natural Gas Pipeline Rate and Refund Report filings:

Filings Instituting Proceedings

Docket Numbers: RP19-1580-000.

Applicants: Greylock Pipeline, LLC.

Description: Compliance filing Notice of Rates 2019 Oct to be effective 10/1/2019.

Filed Date: 9/20/19.

Accession Number: 20190920-5026.

Comments Due: 5 p.m. ET 10/2/19.

Docket Numbers: RP19-1581-000.

Applicants: New England NG Supply, Limited, Boston Gas Company.

Description: Joint Petition for Temporary Waiver of Commission Policies, Capacity Release Regulations and Policies, et al. of New England NG Supply, Limited, et al. under RP19-1581.

Filed Date: 9/20/19.

Accession Number: 20190920-5145.

Comments Due: 5 p.m. ET 10/2/19.

Docket Numbers: RP19-1582-000.

Applicants: Gulf South Pipeline Company, LP.

Description: § 4(d) Rate Filing: Amendment to NC Neg Rate Agmt (BP 46441-2) to be effective 9/16/2019.

Filed Date: 9/23/19.

Accession Number: 20190923-5054.

Comments Due: 5 p.m. ET 10/7/19.

Docket Numbers: RP19-1583-000.

Applicants: ANR Pipeline Company.

Description: § 4(d) Rate Filing: ANR Centra Negotiated Rate Agreement Filing to be effective 11/1/2019.

Filed Date: 9/23/19.

Accession Number: 20190923-5116.

Comments Due: 5 p.m. ET 10/7/19.

Docket Numbers: RP19-1584-000.

Applicants: ANR Pipeline Company.

Description: § 4(d) Rate Filing: ANR Centra Non-Conforming Amendment to be effective 4/1/2020.

Filed Date: 9/23/19.

Accession Number: 20190923-5121.

Comments Due: 5 p.m. ET 10/7/19.

Docket Numbers: RP19-1585-000.

Applicants: Texas Eastern Transmission, LP.

Description: Compliance filing Lambertville East (CP18-26) In-Service Compliance Filing to be effective 11/1/2019.

Filed Date: 9/23/19.

Accession Number: 20190923-5148.

Comments Due: 5 p.m. ET 10/7/19.

Docket Numbers: RP19-1586-000.

Applicants: El Paso Natural Gas Company, L.L.C.

Description: § 4(d) Rate Filing: Negotiated Rate Agreements Filing (XTO Energy) to be effective 9/24/2019.

Filed Date: 9/23/19.

Accession Number: 20190923-5154.

Comments Due: 5 p.m. ET 10/7/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 24, 2019.
Nathaniel J. Davis Sr.,
Deputy Secretary.

[FR Doc. 2019-21139 Filed 9-27-19; 8:45 am]

BILLING CODE 6717-01-P